DEPARTMENT OF ENERGY

Federal Energy Regulatory Commission

Combined Notice of Filings #1

Take notice that the Commission received the following electric rate filings:

Docket Numbers: ER12-1727-000.

Applicants: Puget Sound Energy, Inc.

Description: Puget Interconnection—Original Service Agreement No 632 to be effective 3/1/2012.

Filed Date: 5/7/12.

Accession Number: 20120507-5119.

Comments Due: 5 p.m. ET 5/29/12.

Docket Numbers: ER12-1728-000.

Applicants: Middletown Coke Company, LLC.

Description: Middletown MBR Application to be effective 5/8/2012.

Filed Date: 5/7/12.

Accession Number: 20120507-5128.

Comments Due: 5 p.m. ET 5/29/12.

Docket Numbers: ER12-1729-000.

Applicants: Southern Energy Solution Group, LLC.

Description: Southern Energy Initial MBR Filing to be effective 5/7/2012.

Filed Date: 5/8/12.

Accession Number: 20120508-5001.

Comments Due: 5 p.m. ET 5/29/12.

Docket Numbers: ER12-1730-000.

Applicants: FirstEnergy Solutions Corp.

Description: Application of FirstEnergy Solutions Corp. for authorization to sell electricity at wholesale to The Potomac Edison Company, an affiliate.

Filed Date: 5/7/12.

Accession Number: 20120507-5151.

Comments Due: 5 p.m. ET 5/29/12.

Docket Numbers: ER12-1731-000.

Applicants: FirstEnergy Solutions Corp.

Description: Application of FirstEnergy Solutions Corp. for authorization to sell electricity at wholesale to West Penn Power Company, an affiliate.

Filed Date: 5/7/12.

Accession Number: 20120507-5156.

Comments Due: 5 p.m. ET 5/29/12.

Docket Numbers: ER12-1732-000.

Applicants: Louisville Gas and Electric Company.

Description: ER98_111ER00_1507 Amended and Restated TCA to be effective 6/1/2012.

Filed Date: 5/8/12.

Accession Number: 20120508-5039.

Comments Due: 5 p.m. ET 5/29/12.

Docket Numbers: ER12-1733-000.

Applicants: MidAmerican Energy Company.

Description: MidAmerican Energy Company submits tariff filing per 35.37: MBR Triennial Filing—1st Rev MBR to be effective 9/30/2010.

Filed Date: 5/8/12.

Accession Number: 20120508-5043.

Comments Due: 5 p.m. ET 5/29/12.

Docket Numbers: ER12-1734-000.

Applicants: Kentucky Utilities Company.

Description: Kentucky Utilities Company submits tariff filing per 35.13(a)(2)(iii) ER98_111ER00_1507 Amd and Restated TCA KU Concur to be effective 6/1/2012.

Filed Date: 5/8/12.

Accession Number: 20120508-5047.

Comments Due: 5 p.m. ET 5/29/12.

Docket Numbers: ER12-1735-000.

Applicants: Midwest Independent Transmission System Operator, Inc.

Description: Midwest Independent Transmission System Operator, Inc. submits tariff filing per 35.13(a)(2)(iii) GRE-City of Worthington T-T to be effective 5/9/2012.

Filed Date: 5/8/12.

Accession Number: 20120508-5049.

Comments Due: 5 p.m. ET 5/29/12.

Docket Numbers: ER12-1736-000.

Applicants: ITC Midwest LLC.

Description: ITC Midwest LLC submits tariff filing per 35.13(a)(2)(iii) Filing of an Interconnection Agreement to be effective 7/10/2012.

Filed Date: 5/8/12.

Accession Number: 20120508-5060.

Comments Due: 5 p.m. ET 5/29/12.

Docket Numbers: ER12-1737-000.

Applicants: Cordova Energy Company LLC.

Description: Cordova Energy Company LLC submits tariff filing per 35.37: Cordova Energy Company LLC MBR Tariff Filing to be effective 6/24/2011.

Filed Date: 5/8/12.

Accession Number: 20120508-5067.

Comments Due: 5 p.m. ET 5/29/12.

Docket Numbers: ER12-1738-000.

Applicants: Saranac Power Partners, L.P.

Description: Saranac Power Partners, L.P. submits tariff filing per 35.37: Saranac Power Partners, L.P. MBR Tariff Filing to be effective 9/14/2010.

Filed Date: 5/8/12.

Accession Number: 20120508-5069.

Comments Due: 5 p.m. ET 5/29/12.

Take notice that the Commission received the following electric reliability filings:

Docket Numbers: RR12-8-000.

Applicants: North American Electric Reliability Corporation.

Description: Petition of the North American Electric Reliability Corporation for Approval of Revisions to its Rules of Procedure.

Filed Date: 5/7/12.

Accession Number: 20120507-5083.

Comments Due: 5 p.m. ET 5/29/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 8, 2012.
Nathaniel J. Davis, Sr.,
Deputy Secretary.

[FR Doc. 2012-11692 Filed 5-14-12; 8:45 am]

BILLING CODE 6717-01-P